DEPARTMENT OF THE INTERIOR

Bureau of Land Management

DEPARTMENT OF AGRICULTURE

Forest Service

[CA 668_05_1610_PG_083A]

Santa Rosa and San Jacinto Mountains National Monument Advisory Committee; Notice of Intent To Call for Public Nominations for National Monument Advisory Committee

AGENCIES: Bureau of Land Management, U.S. Department of the Interior and Forest Service, U.S. Department of Agriculture.

ACTION: Call for nominations for the appointment of five open positions on the Santa Rosa and San Jacinto Mountains National Monument Advisory Committee.

SUMMARY: The Santa Rosa and San Jacinto Mountains National Monument Act of 2000 (Act) requires the establishment of a citizens advisory committee to advise the Secretary of the U.S. Department of the Interior and the Secretary of the U.S. Department of Agriculture on resource management issues associated with the Santa Rosa and San Jacinto Mountains National Monument. The National Monument Advisory Committee provides advice to the Secretaries on issues regarding the implementation of the National Monument Management Plan.

This notice is an open request for the public to submit nomination applications for the five (5) National Monument Advisory Committee (MAC) positions, which will be open with the expiration of current members' terms in November 2005.

The National Monument Advisory Committee is managed under the provisions of the Federal Advisory Committee Act. The call for open nominations for appointment involves representatives for:

• City of Cathedral City

• City of Indian Wells

• Coachella Valley Mountains Conservancy

• County of Riverside

• Winter Park Authority

Nominations applications are available on-line at [w] http://www.ca.blm.gov/palmsprings/santarosa/santa_rosa_national_monument.html; or may be requested by telephone or fax at [p] (760) 251-4800, [f] (760) 251-4899; via mail by writing to Santa Rosa and San Jacinto Mountains National Monument Advisory Committee Nominations, Attn: National Monument Manager—Application Request, c/o Bureau of Land Management, Palm Springs-South Coast Field Office, P.O. Box 581260, North Palm Springs, California 92258; [e] ca_srsj_nm@ca.blm.gov; or visiting either the Palm Springs-South Coast Field Office at 690 West Garnet Avenue, or the National Monument Visitor Center at 51-500 Highway 74, Palm Desert, California 92260.

DATES: Submit completed nominations to the address listed below no later than May 23, 2005.

ADDRESSES: Santa Rosa and San Jacinto Mountains National Monument Advisory Committee Nominations, Attn: National Monument Manager, c/o Bureau of Land Management, Palm Springs-South Coast Field Office, P.O. Box 581260, North Palm Springs, California 92258-1260.

Telephone, Fax, and e-mail: [p] (760) 251-4804; [f] (760) 251-4899; [e] ca_srsj_nm@ca.blm.gov.

FOR FURTHER INFORMATION CONTACT: Frank Mowry, Writer-Editor, Santa Rosa and San Jacinto Mountains National Monument, (760) 251-4822.

SUPPLEMENTARY INFORMATION: As directed by the Act, the Secretary of the Interior and the Secretary of Agriculture have jointly established an advisory committee for the Santa Rosa and San Jacinto Mountains National Monument. The National Monument Advisory Committee's purpose is to advise the Secretaries with respect to the implementation of the National Monument Management Plan. The National Monument Advisory Committee meets several times a year. Their purpose is to gather and analyze information, conduct studies and field examinations, hear public testimony, ascertain facts, and, in an advisory capacity only, develop recommendations concerning the implementation of the National Monument Management Plan. The designated Federal officer, or their designee, in connection with special needs for advice, may call additional meetings as necessary.

In accordance with the National Monument Advisory Committee Charter, any individual or organization may nominate one or more persons to serve on the National Monument Advisory Committee. Individuals may nominate themselves for National Monument Advisory Committee membership. To make a nomination, individuals must submit a completed nomination form; letters of reference, from the represented interests or organization; and any other information explaining the nominee's qualifications, to the offices listed above. Applications must be completed in full following application instructions. Note: Incorrectly completed or incomplete applications will be rejected. Nomination applications become the property of the Department of the Interior, Bureau of Land Management, Santa Rosa and San Jacinto Mountains National Monument and will not be returned. Nominations may be made for the following categories of interest, as specified in the Act:

• A representative from the Coachella Valley Mountains Conservancy;

• A representative of the following two cities:

○ City of Cathedral City, California

○ Indian Wells, California;

• A representative from the County of Riverside, California; and

• A representative from the Winter Park Authority.

Nominations to the National Monument Advisory Committee should describe and document the proposed member's qualifications for membership.

Nomination forms will be available on-line through the National Monument's Web site at [w] http://www.ca.blm.gov/palmsprings/santarosa/santa_rosa_national_monument.html. Forms may be picked up in person by visiting the Bureau of Land Management, Palm Springs-South Coast Field Office, 690 West Garnet Avenue, North Palm Springs, CA 92258, from the National Monument Visitor Center at 51-500 Highway 74, Palm Desert, CA 92262. Forms may be requested by telephone or fax at: [p] (760) 251-4800; [p] (760) 862-9984; [f] (760) 251-4899; or in writing to the National Monument at either the BLM or via e-mail at [e] ca_srsj_nm@ca.blm.gov.

National Monument Advisory Committee members are appointed for 3-year terms. The Secretary of the Interior will make appointments to the National Monument Advisory Committee with the concurrence of the Secretary of Agriculture. All National Monument Advisory Committee members are volunteers and serve without pay, but will be reimbursed for travel and per diem expense at the current rates for government employees under 5 U.S.C. 5703.

Dated: February 1, 2005.
Gail Acheson,
Bureau of Land Management, Palm Springs-South Coast, Field Office Manager.

Dated: February 1, 2005.
Danella George,
Santa Rosa and San Jacinto Mountains, National Monument Manager.

Dated: January 18, 2005.
Laurie Rosenthal,
District Ranger, San Jacinto Ranger District, San Bernardino National Forest.

[FR Doc. 05-5453 Filed 3-18-05; 8:45 am]

BILLING CODE 4310-40-P